DEPARTMENT OF THE TREASURY

Internal Revenue Service

26 CFR Part 1

[REG-143716-04]

RIN 1545-BD67

Declaratory Judgments—Gift Tax Determinations; Hearing Cancellation

AGENCY: Internal Revenue Service (IRS), Treasury.

ACTION: Cancellation of notice of public hearing on proposed rulemaking.

SUMMARY: This document cancels a public hearing on proposed regulations under section 7477 of the Internal Revenue Code (Code) regarding petitions filed with the United States Tax Court for declaratory judgments as to the valuation of gifts.

DATES: The public hearing, originally scheduled for October 16, 2008 at 10 a.m. is cancelled.

FOR FURTHER INFORMATION CONTACT: Funmi Taylor of the Publications and Regulations Branch, Legal Processing Division, Associate Chief Counsel (Procedure and Administration) at (202) 622-3628 (not a toll-free number).

SUPPLEMENTARY INFORMATION: A notice of proposed rulemaking and a notice of public hearing that appeared in the Federal Register on Monday, June 9, 2008 (73 FR 32503) announced that a public hearing was scheduled for October 16, 2008, at 10 a.m. in the IRS Auditorium, Internal Revenue Building, 1111 Constitution Avenue, NW., Washington, DC. The subject of the public hearing is under section 7447 of the Internal Revenue Code.

The public comment period for these regulations expired on September 8, 2008. Outlines of topics to be discussed at the hearing were due on September 16, 2008. The notice of proposed rulemaking and notice of public hearing instructed those interested in testifying at the public hearing to submit a request to speak and an outline of the topics to be addressed. As of Monday, September 22, 2008, no one has requested to speak. Therefore, the public hearing scheduled for October 16, 2008, is cancelled.

LaNita Van Dyke,
Chief, Publications and Regulations Branch, Legal Processing Division, Associate Chief Counsel (Procedure and Administration).

[FR Doc. E8-22825 Filed 9-26-08; 8:45 am]

BILLING CODE 4830-01-P